DEPARTMENT OF VETERANS AFFAIRS

Advisory Committee on Homeless Veterans; Notice of Meeting

The Department of Veterans Affairs (VA) gives notice under the Federal Advisory Committee Act, 5 U.S.C., app. 2., that the virtual meeting of the Advisory Committee on Homeless Veterans will be held on December 13, 2022. The meeting session will begin and end at 11 a.m. to 1 p.m. eastern standard time (EST). The virtual meeting session will be open to the public.

The purpose of the Committee is to provide the Secretary of Veterans Affairs with an ongoing assessment of the effectiveness of the policies, organizational structures, and services of VA in assisting Veterans at risk of and experiencing homelessness. The Committee shall assemble and review information related to the needs of homeless Veterans and provide advice on the most appropriate means of assisting this Veteran population. The Committee will discuss and vote on recommendations that will be included in the Annual Report that will be submitted to the Secretary.

No time will be allocated at the meeting for receiving oral presentations from the public. Interested parties should provide written comments on issues affecting homeless Veterans for review by the Committee to Anthony Love, Designated Federal Officer, Veterans Health Administration Homeless Programs Office (11HPO), U.S. Department of Veterans Affairs, 811 Vermont Avenue NW (11HPO), Washington, DC 20420, or via email at achv@va.gov.

Members of the public who wish to attend the virtual meeting should contact Anthony Love, Designated Federal Officer, Veterans Health Administration, Homeless Programs Office, at achv@va.gov no later than December 1, 2022, providing their name, professional affiliation, email address, and phone number. Attendees who require reasonable accommodations should also state so in their requests.

The meeting link and call-in number is noted below:

Join Zoom Meeting: https://us06web.zoom.us/j/84990801001.

Meeting ID: 849 9080 1001.

One Tap Mobile:

+13017158592,,84990801001# US (Washington, DC)

+16469313860,,84990801001# US

Dial By Your Location:

+1 301 715 8592 US (Washington, DC)

+1 646 931 3860 US

+1 309 205 3325 US

+1 312 626 6799 US (Chicago)

+1 646 558 8656 US (New York)

+1 720 707 2699 US (Denver)

+1 253 215 8782 US (Tacoma)

+1 346 248 7799 US (Houston)

+1 386 347 5053 US

+1 564 217 2000 US

+1 669 444 9171 US

+1 719 359 4580 US

Find your local number: https://us06web.zoom.us/u/kbjrOMXN0.

Dated: October 28, 2022.
Jelessa M. Burney,
Federal Advisory Committee Management Officer.

[FR Doc. 2022-23831 Filed 11-1-22; 8:45 am]

BILLING CODE 8320-01-P